DEPARTMENT OF THE INTERIOR

Bureau of Indian Affairs

Notice of Intent To Prepare an Environmental Impact Statement for the Proposed Reconstruction of BIA Route 4 on the Crow Creek Reservation, South Dakota

AGENCY: Bureau of Indian Affairs, Interior.

ACTION: Notice.

SUMMARY: The Bureau of Indian Affairs (BIA) has reconsidered the Finding of No Significant Impact signed on March 24, 2004, for the proposed reconstruction of BIA Route 4 near Fort Thompson, South Dakota. This notice advises the public that the BIA intends to gather the information necessary to prepare an Environmental Impact Statement (EIS) for the reconstruction project. The purpose of the proposed action is to improve the roadway to modern safety standards. This notice also announces two public scoping meetings to identify potential issues, concerns and alternatives to be considered in the EIS.

DATES: Written comments on the scope and implementation of this proposal must arrive by September 2, 2005. The public scoping meetings will be held August 23 and 25, 2005, from 6 p.m. to 9 p.m., or until the last public comment is received.

ADDRESSES: You may mail or hand carry written comments to Marilyn Bercier, 115 4th Avenue SE., Aberdeen, South Dakota 57401.

The August 23, 2005, public scoping meeting will be held in the casino at the Lodestar Casino and Hotel, Fort Thompson, South Dakota. The August 25, 2005, public scoping meeting will be held at the Four Bears Casino and Lodge, New Town, North Dakota.

FOR FURTHER INFORMATION CONTACT: Marilyn Bercier, (605) 226-7645.

SUPPLEMENTARY INFORMATION: The BIA proposes to acquire rights-of-way and provide funding for the reconstruction of BIA Route 4 on the Crow Creek Reservation, as proposed by the Crow Creek Sioux Tribe. From Fort Thompson, South Dakota, BIA Route 4 runs about 8 miles south and east to its intersection with State Highway 50. BIA Route 4 is located in Township 106 & 107 North and Range 71 & 72 West in Buffalo County, South Dakota.

Part of the Lewis and Clark scenic byway system, the highway poses safety risks to members of the Crow Creek Sioux Tribe and the general traveling public. In addition to surface distress and deterioration throughout its length, the existing roadway has numerous other safety deficiencies, including steep side slopes, abrupt vertical and horizontal curvature, a narrow roadway surface, steep in- and back-slopes, protruding pipes, improper sight distances, and roadside obstructions. The BIA proposes that Route 4 be reconstructed to current safety guidelines.

The BIA will serve as the Lead Agency for compliance with the National Environmental Policy Act. The Crow Creek Sioux Tribe, the Advisory Council on Historic Preservation, and the Mandan, Hidatsa and Arikara Nation have been invited to participate as cooperating agencies in the preparation of the EIS.

The EIS will assess the potential effects to the human environment from the reconstruction of Route 4. Areas of concern include socio-economics, transportation, groundwater and surface water, wildlife and their habitats, cultural resources, aesthetics, land uses, health and safety, and threatened, endangered, or special-status species. The list of issues to be addressed may expand after scoping comments are received.

Public Comment Availability

Comments, including names and addresses of respondents, will be available for public review at the mailing address shown in the ADDRESSES section during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.1.

Dated: June 16, 2005.
Debbie L. Clark,
Acting Principal Deputy Assistant Secretary—Indian Affairs.

[FR Doc. 05-14116 Filed 7-18-05; 8:45 am]

BILLING CODE 4310-W7-P